DEPARTMENT OF DEFENSE

Office of the Secretary

Panel To Review Sexual Misconduct Allegations at the United States Air Force Academy

AGENCY: Department of Defense.

ACTION: Notice of Advisory Committee meeting.

SUMMARY: The Panel to Review Sexual Misconduct Allegations at the United States Air Force Academy met in a closed session from 2 p.m. to 5 p.m. on July 31, 2003. The Panel discussed individual sexual misconduct allegations and investigations at the Academy during this session. Congress directed the establishment of this seven member panel in Pub. L. 108-11, Emergency Wartime Supplemental Appropriations Act, 2003.

The session was closed to the public in accordance with 5 U.S.C. 552b(c)(6) because the panel members discussed matters of a personal nature, the disclosure of which would constitute a clearly unwarranted invasion of personal privacy.

This notice is being published after the meeting took place due to last minute changes in the agenda and the short time frame Congress allowed for the Panel to complete their review and produce a final report.

DATES: July 31, 2003.

ADDRESSES: Conference Room, Boards, Commissions and Task Force Offices, 1235 Jefferson Davis Highway, Suite 900, Arlington, VA 22202.

FOR FURTHER INFORMATION CONTACT: Sheila Earle, Designated Federal Official, 703-601-2553.

Dated: July 28, 2003.
Patricia L. Toppings,
Alternate Federal Register Liaison Officer, Department of Defense.

[FR Doc. 03-19819 Filed 8-4-03; 8:45 am]

BILLING CODE 5001-08-M